DEPARTMENT OF THE INTERIOR

National Park Service

General Management Plan, Final Environmental Impact Statement, Fort Davis National Historic Site, Texas

AGENCY: National Park Service, Interior.

ACTION: Notice of availability of the Final Environmental Impact Statement for the General Management Plan, Fort Davis National Historic Site.

SUMMARY: Pursuant to National Environmental Policy Act of 1969, 42 U.S.C. 4332(c), the National Park Service announces the availability of the Final Environmental Impact Statement for the General Management Plan, Fort Davis National Historic Site, Fort Davis, Texas.

DATES: The National Park Service will execute a Record of Decision (ROD) no sooner than 30 days following publication by the Environmental Protection Agency of the notice of availability of the Final Environmental Impact Statement.

ADDRESSES: Information will be available for public review in the office of the Superintendent, and at the following locations: (1) Superintendent, Fort Davis National Historic Site, P.O. Box 1379, Fort Davis, Texas 79734. (2) On the NPS Planning Web site at: http://planning.den.nps.gov/plans.cfm.

FOR FURTHER INFORMATION CONTACT: Superintendent, Fort Davis National Historic Site, P.O. Box 1379, Fort Davis, Texas 79734 915-426-3224, extension 21.

Dated: August 5, 2002.
Michael D. Sunder,
Director, Intermountain Region, National Park Service.

[FR Doc. 02-24059 Filed 9-20-02; 8:45 am]

BILLING CODE 4310-70-P